DEPARTMENT OF DEFENSE

Department of the Navy

Privacy Act of 1974; System of Records

AGENCY: Department of the Navy, DOD.

ACTION: Notice to add a system or records.

SUMMARY: The Department of the Navy proposes to add a system of records notice to its inventory of record systems subject to the Privacy Act of 1974 (5 U.S.C. 552a), as amended.

DATES: This action will be effective on May 14, 2001 unless comments are received that would result in a contrary determination.

ADDRESSES: Send comments to the Department of the Navy, PA/FOIA Policy Branch, Chief of Naval Operations (N09B10), 2000 Navy Pentagon, Washington, DC 205350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act, was submitted on April 3, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: April 6, 2001.
L. M. Bynum,
Alternate OSD Federal Register Liaison Officer, Department of Defense.

N07421-1

System Name:

Time and Attendance Feeder Records.

System Location:

Organizational elements of the Department of the Navy. Official mailing addresses are published as an appendix to the Navy's compilation of systems of records of notices.

Categories of Individuals Covered by the System:

Civilian, military, non-appropriated, direct, indirect and contractor personnel assigned to the Navy, Marine Corps, and combatant commands under the auspices of the Department of the Navy.

Categories of Records in the System:

Time and attendance data and labor distribution data that includes name, Social Security Number, work location, job order number, task orders, leave accrual data, occupational series, grade, pay period identification, time card certification information, special pay categories, work schedule, etc.

Authority for Maintenance of the System:

5 U.S.C. 301, Departmental Regulations; 10 U.S.C. 5013, Secretary of the Navy; and E.O. 9397 (SSN).

Purpose(s):

Records are being collected and maintained for the purpose of tracking time and attendance and labor distribution data for civilian, military, and contractor labor against job order numbers for financial purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' that also apply to this system.

Policies and practices for storing, retrieving, accessing, retaining, and disposing of records in the system:

Storage:

Automated and manual records.

Retrievability:

Name, Social Security Number, organization, pay period.

Safeguards:

Computer processing facilities are located in restricted areas accessible only to authorized persons that are properly screened, cleared, and trained. Manual records and computer printouts are only available to authorized personnel having a need to know. Access to individual computers is user-id and password protected. Access to the database is limited to those with a need to know. Each user has an individual user id and password for access to the database. Transfer of data is accomplished through data encryption.

Retention and Disposal:

Feeder reports are maintained at the local office for 6 years and then destroyed. Data base information held by the Defense Information Systems Agency is retained for 6 years and then destroyed.

System Manager(s) and Address:

Policy Official: Deputy Assistant Secretary of the Navy (Civilian Personnel/Equal Employment Opportunity), 1000 Navy Pentagon, Washington, DC 20350-1000.

Record Holders: Organizational elements of the Department of the Navy. Official mailing addresses are published as an appendix to the Navy's compilation of systems of records notices.

Notification Procedure:

Individuals seeking to determine whether information about themselves is contained in this system should address written inquiries to the commanding officer for their organization. Official mailing addresses are published as an appendix to the Navy's compilation of records notices.

Inquiries should contain the individual's full name, home address, Social Security Number, organization, pay period and must be signed.

Record Access Procedures:

Individuals seeking access to records about themselves contained in this system of records should address written inquiries to the commanding officer for their organization. Official mailing addresses are published as an appendix to the Navy's compilation of records notices.

Inquiries should contain the individual's full name, home address, Social Security Number, organization, pay period, and must be signed.

Contesting Record Procedures:

The Navy's rules for accessing records, and for contesting contents and appealing initial agency determinations are published in Secretary of the Navy Instruction 5211.5; 32 CFR part 701; or may be obtained from the system manager.

Record Source Categories:

Individual; time sheets; and work schedules.

Exemptions Claimed for the System:

None.

[FR Doc. 01-9140 Filed 4-12-01; 8:45 am]

BILLING CODE 5001-10-M